FEDERAL COMMUNICATIONS COMMISSION

[OMB 3060-1151; FR ID 84075]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before May 31, 2022.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1151.

Title: Sections 1.1411, 1.1412, and 1.1415 Pole Attachment Access Requirements.

Form Number: N/A.

Type of Review: Revision of a currently approved collection.

Respondents: Business or other for-profit.

Number of Respondents and Responses: 1,313 respondents; 163,876 responses.

Estimated Time per Response: 0.50-6 hours.

Frequency of Response: On-occasion reporting requirement, recordkeeping requirement, and third-party disclosure requirement.

Obligation to Respond: Mandatory. Statutory authority for this information collection is contained in 47 U.S.C. 224.

Total Annual Burden: 112,534 hours.

Total Annual Cost: $6,750,000.

Privacy Act Impact Assessment: No impact(s).

Nature and Extent of Confidentiality: No questions of a confidential nature are asked.

Needs and Uses: The Commission is requesting the Office of Management and Budget (OMB) approval for this revised information collection. In Accelerating Wireline Broadband Deployment by Removing Barriers to Infrastructure Investment, WC Docket No. 17-84, WT Docket No. 17-70, Third Report and Order and Declaratory Ruling, FCC 18-111 (2018) (Order), the Commission adopted rules that implement the pole attachment requirements in section 224 of the Communications Act of 1934, as amended. The Order substantially revised 47 CFR 1.1411 and 1.1412. It also added new 47 CFR 1.1415.

Section 1.1411. In the Order, the Commission adopted a one-touch, make-ready (OTMR) process for when a telecommunications carrier or cable television system (new attacher) elects to do the work itself to prepare a utility pole for a simple wireline attachment in the communications space. As part of the OTMR process, the new attacher typically first conducts a survey of the affected poles, giving the utility and existing attachers a chance to be present for the survey. New attachers must elect the OTMR process in their pole attachment application and must demonstrate to the utility that the planned work qualifies for OTMR. The utility then must determine whether the pole attachment application is complete and whether the work qualifies for OTMR, and then must either grant or deny pole access and explain its decision in writing. The utility also can object to the new attacher's determination that the work qualifies for OTMR, and that objection is final and determinative so long as it is specific and in writing, includes all relevant evidence and information supporting its decision, made in good faith, and explains how such evidence and information relates to a determination that the make-ready is not simple. If the new attacher's OTMR application is approved, then it can proceed with OTMR work by giving advance notice to the utility and existing attachers and allowing them an opportunity to be present when OTMR work is being done. New attachers must provide immediate notice to affected utilities and existing attachers if outages or equipment damage is caused by their OTMR work. Finally, new attachers must provide notice to affected utilities and existing attachers after OTMR work is completed, allowing them to inspect the work and request remediation, if necessary. The Commission also adopted changes to its existing pole attachment timeline, which still will be used for complex work, work above the communications space on a utility pole, and in situations where new attachers do not want to elect OTMR. The Commission largely kept the existing pole attachment timeline intact, except for the following changes: (1) Revising the definition of a complete pole attachment application and establishing a timeline for a utility's determination whether an application is complete; (2) requiring utilities to provide at least three business days' advance notice of any surveys to attachers; (3) establishing a 30-day deadline for completion of all make-ready work in the communications space; (4) eliminating the 15-day utility make-ready period for communications space attachments; (5) streamlining the utility's notice requirements; (6) enhancing the new attacher's self-help remedy by making the remedy available for surveys and make-ready work for all attachments anywhere on the pole in the event that the utility or the existing attachers fail to meet the required deadlines; (7) providing notice requirements when new attachers elect self-help, such notices to be given when new attachers perform self-help surveys and make-ready work, when outages or equipment damage results from self-help work, and upon completion of self-help work to allow for inspection; (8) allowing utilities to meet the survey requirement by electing to use surveys previously prepared on the affected poles by new attachers; and (9) requiring utilities to provide detailed make-ready cost estimates and final invoices on a pole-by-pole basis if requested by new attachers. Both utilities and existing attachers can deviate from the existing pole attachment make-ready timeline for reasons of safety or service interruption by giving written notice to the affected parties that includes a detailed explanation of the need for the deviation and a new completion date. The deviation shall be for a period no longer than necessary to complete make-ready on the affected poles, and the deviating party shall resume make-ready without discrimination when it returns to routine operations.

Section 1.1412. The Commission required utilities to make available, and keep up-to-date, a reasonably sufficient list of contractors that they authorize to perform surveys and make-ready work that are complex or involve self-help work above the communications space of a utility pole. Attachers can request to add to the list any contractor that meets certain minimum qualifications, subject to the utility's ability to reasonably object. For simple work, a utility may, but is not required, to keep an up-to-date, reasonably sufficient list of contractors that they authorize to perform surveys and simple make-ready work. For any utility-supplied contractor list, the utility must ensure that the contractors meet certain minimum requirements. Attachers can request to add to the list any contractor that meets the minimum qualifications, subject to the utility's ability to reasonably object. If the utility does not provide a list of approved contractors for surveys or simple make-ready, or no utility-approved contractor is available within a reasonable time period, then the new attacher may choose its own qualified contractor that meets the minimum requirements, subject to notice and the utility's ability to disqualify the chosen contractor for reasonable safety or reliability concerns.

Section 1.1415. The Commission codified its policy that utilities may not require an attacher to obtain prior approval for overlashing on an attacher's existing wires or for third-party overlashing of an existing attachment when such overlashing is conducted with the permission of the existing attacher. In addition, the Commission adopted a rule that allows utilities to establish reasonable advance notice requirements for overlashing (up to 15 days' advance notice). If a utility requires advance notice for overlashing, then the utility must provide existing attachers with advance written notice of the notice requirement or include the notice requirement in the attachment agreement with the existing attacher. If, after receiving advance notice, the utility determines that an overlash would create a capacity, safety, reliability, or engineering issue, then it must provide specific documentation of the issue to the party seeking to overlash within the 15-day advance notice period, and the party seeking to overlash must address any identified issues before continuing with the overlash either by modifying its proposal or by explaining why, in the party's view, a modification is unnecessary. An overlashing party must notify the affected utility within 15 days of completion of the overlash and provide the affected utility at least 90 days to inspect the overlash. If damage or code violations are discovered by the utility during the inspection, then it must notify the overlashing party, provide adequate documentation of the problem, and elect to either fix the problem itself at the overlashing party's expense or require remediation by the overlashing party.

Federal Communications Commission.
Marlene Dortch,
Secretary, Office of the Secretary.

[FR Doc. 2022-09031 Filed 4-27-22; 8:45 am]

BILLING CODE 6712-01-P